ELECTION ASSISTANCE COMMISSION

Standardized Format To Be Used for Both Interim and Final Progress Reporting

AGENCY: U.S. Election Assistance Commission (EAC).

ACTION: Request for public comment on standardized EAC Progress Report (EAC-PR) format.

SUMMARY: The EAC Office of Grants Management (EAC/OGM) is responsible for distributing, monitoring, and providing technical assistance to states and grantees on the use of Federal funds. EAC/OGM also reports on how the funds are spent, negotiates indirect cost rates with grantees, and resolves audit findings on the use of Help America Vote Act (HAVA) funds. The EAC-PR has been developed for both interim and final progress reports for grants issued under HAVA authority. EAC received emergency clearance of its Coronavirus Aid, Relief and Economic Security (CARES) Act report form due to the public health emergency posed by COVID19. This format builds upon that report for the separate grant awards given by EAC.

DATES: Comments must be received by 5 p.m. EST on Monday, August 17, 2020.

ADDRESSES: To view the proposed EAC-PR format, see: https://www.eac.gov/payments-and-grants/reporting. Written comments and recommendations for the proposed information collection should be sent directly to HAVAFunding@eac.gov.

FOR FURTHER INFORMATION CONTACT: For information on the EAC-PR, contact Kinza Ghaznavi, Office of Grants, Election Assistance Commission, HAVAFunding@eac.gov, (202) 400-1086.

All requests and submissions should be identified by the title of the information collection.

SUPPLEMENTARY INFORMATION:

Description

A “For Comment” version of the draft format for use in submission of interim and final Progress Reports is posted on the EAC website at: https://www.eac.gov/payments-and-grants/reporting. The PR will directly benefit award recipients by making it easier for them to administer Federal grant and cooperative agreement programs through standardization of the types of information required in progress reports—thereby reducing their administrative effort and costs.

After obtaining and considering public comment, the EAC will prepare the format for final clearance. Comments are invited on (a) ways to enhance the quality, utility, and clarity of the information collected from respondents, including through the use of automated collection techniques or other forms of information technology; and (b) ways to minimize the burden of the collection of information on respondents, including through the use of automated collection techniques or other forms of information technology.

The EAC proposes to collect program progress data for HAVA grantees building upon the emergency approved form OMB Control No: 3265-0020 for the HAVA CARES Act Progress Reports. EAC will use this data to ensure grantees are proceeding in a satisfactory manner in meeting the approved goals and purpose of the project.

The requirement for grantees to report on performance is OMB grants policy. Specific citations are contained in part 200, “Uniform Administrative Requirements, Cost Principles, and Audit Requirements for Federal Awards.”

Respondents: All EAC grantees and state governments.

Annual Burden Estimates
EAC grant | Instrument | Total number of respondents | Total number of responses per year | Average burden hours per response | Annual burden hours
251 | EAC-PR | 56 | 2 | 1 | 112
101 | EAC-PR | 56 | 2 | 1 | 112
2018 | EAC-PR | 56 | 2 | 1 | 112
CARES | EAC-PR | 56 | * 3 | 1 | 168
Total |  |  |  |  | 504

Amanda Joiner,
Associate Counsel, U.S. Election Assistance Commission.

[FR Doc. 2020-13032 Filed 6-16-20; 8:45 am]

BILLING CODE 6820-KF-P